AGENCY FOR INTERNATIONAL DEVELOPMENT

Proposed Revision of AID 114-2 Anti-Harassment Intake Summary Sheet

Correction

In notice document 2024-19314 appearing on page 68849 in the issue of Wednesday, August 28, 2024, make the following correction:

In the second column, under FOR FURTHER INFORMATION CONTACT:, in the first line “9Tanya Shorter” should read “Tanya Shorter”.

[FR Doc. C1-2024-19314 Filed 9-26-24; 8:45 am]

BILLING CODE 0099-10-D